FEDERAL HOUSING FINANCE BOARD

Sunshine Act Meeting Notice; Announcing a Partially Open Meeting of the Board of Directors

Time and Date: The open meeting of the Board of Directors is scheduled to begin at 10 a.m. on Friday, October 29, 2004. The closed portion of the meeting will follow immediately the open portion of the meeting.

Place: Board Room, Second Floor, Federal Housing Finance Board, 1777 F Street, NW., Washington, DC 20006.

Status: The first portion of the meeting will be open to the public. The final portion of the meeting will be closed to the public.

Matters to be Considered at the Open Portion of the Meeting: Process for Appointment of Federal Home Loan Bank Directors. Appointments to the Financing Corporation Directorate.

Matter to be Considered at the Closed Portion of the Meeting: Periodic Update of Examination Program Development and Supervisory Findings.

CONTACT PERSON FOR MORE INFORMATION: Mary H. Gottlieb, Paralegal Specialist, Office of General Counsel, by telephone at 202/408-2826, or by electronic mail at gottliebm@fhfb.gov.

Dated: October 25, 2004.
By the Federal Housing Finance Board.
Mark J. Tenhundfeld,
General Counsel.

[FR Doc. 04-24111 Filed 10-25-04; 11:50 am]

BILLING CODE 6725-01-P